DEPARTMENT OF COMMERCE

National Oceanic and Atmospheric Administration

[I.D. 033004A]

Magnuson-Stevens Act Provisions; General Provisions for Domestic Fisheries; Application for Exempted Fishing Permit (EFP)

AGENCY: National Marine Fisheries Service (NMFS), National Oceanic and Atmospheric Administration (NOAA), Commerce.

ACTION: Notification of a proposal for EFP to conduct experimental fishing; request for comments.

SUMMARY: NMFS announces that the Assistant Regional Administrator for Sustainable Fisheries, Northeast Region, NMFS (Assistant Regional Administrator) proposes to recommend that an EFP be issued in response to an application submitted by Kelo Pinkham in collaboration with Dana Morse (Darling Marine Center). The EFP would allow an exemption from the seasonal GOM Rolling Closure Areas III and IV restrictions. The Assistant Regional Administrator has made a preliminary determination that the application contains all of the required information and warrants further consideration and that the activities to be authorized under the EFP would be consistent with the goals and objectives of the Northeast Multispecies Fishery Management Plan. However, further review and consultation may be necessary before a final determination is made to issue an EFP.

DATES: Comments must be received on or before April 21, 2004.

ADDRESSES: Written comments should be sent to Patricia A. Kurkul, Regional Administrator, NMFS, Northeast Regional Office, 1 Blackburn Drive, Gloucester, MA 01930. Mark the outside of the envelope “Comments on Positively Buoyant Ground Cables.” Comments may also be sent via fax to (978) 281-9135, or submitted via e-mail to the following address: da424@noaa.gov.

FOR FURTHER INFORMATION CONTACT: Heather Sagar, Fishery Management Specialist, phone: 978-281-9341, fax: 978-281-9135, e-mail: heather.sagar@noaa.gov.

SUPPLEMENTARY INFORMATION: Kelo Pinkham, in collaboration with Dana Morse (Darling Marine Center), submitted a complete EFP application on March 2, 2004. The purpose of this study is to decrease bottom contact of trawl gear and improve the selectivity of groundfish trawls through modifications to increase the buoyancy of the ground cables and the trawl frame. Although the trawl would be modified, the gear would still be compliant with all current regulations. Exemptions would be necessary to relieve vessels from the seasonal GOM Rolling Closure Areas III and IV restrictions in order to provide a greater opportunity to access the appropriate mix of roundfish for effective gear selectivity testing, when compared to open areas.

The proposed study would occur inside the area defined by the following coordinates: 43°40′ N. lat., 69°50′ W. long.; 43°40′ N. lat., 69°30′ W. long.; 43°20′ N. lat., 69°50′ W. long.; and 43°20′ N. lat., 69°30′ W. long. At no time would fishing operations be conducted inside year-round closure areas. There would be one vessel participating in this study for a total of 10 days. The study would occur from May 15, 2004, through June 15, 2004, during which time the vessel would complete 2 days devoted to work with underwater cameras, and 8 days of gear trials. During all 10 days, the vessel would alternate tows with its modified 70-ft (23.3 m) otter trawl net, and its standard New England rigged net. No fish would be landed during the days dedicated to camera work. The vessel would be required to fish under its days-at-sea throughout the study. The vessel would complete 4 to 6 tows per day, and each tow would last up to 2 hours, for a maximum of 60 tows for this study. Other than the exemption from the Rolling Closure restriction, this study would be conducted in accordance with normal fishing practices. All fish landed would be subject to existing minimum size and trip limit requirements. Darling Marine Laboratory would be responsible for developing a full report of results and would provide this report to NMFS.

Regulations under the Magnuson-Stevens Fishery Conservation and Management Act require publication of this notification to provide interested parties the opportunity to comment on applications for proposed EFPs.

Authority: 16 U.S.C. 1801 et seq.

Dated: March 31, 2004.
Alan D. Risenhoover,
Acting Director, Office of Sustainable Fisheries, National Marine Fisheries Service.

[FR Doc. E4-764 Filed 4-5-04; 8:45 am]

BILLING CODE 3510-22-S